SMALL BUSINESS ADMINISTRATION

Connecticut District Advisory Council Public Meeting

The U.S. Small Business Administration Connecticut District Advisory Council, located in the geographical area of Hartford, Connecticut will hold a public meeting at 8:30 a.m., on Monday, November 17, 2003, Connecticut District Office, 330 Main Street, Hartford, Connecticut 06106, to discuss such matters as may be presented. For further information, write or call Marie Record, District Director, U.S. Small Business Administration, 330 Main Street, Hartford, Connecticut—(860) 240-4700.

Anyone wishing to attend and make an oral presentation to the Board must contact Marie A. Record, no later than Friday, November 14, 2003, via e-mail or fax. Marie A. Record, District Director, U.S. Small Business Administration, Connecticut District Office 330 Main Street, Hartford, CT 06106 (860) 240-4670 phone or (860) 240-4714 fax or e-mail marie.record@sba.gov.

Scott R. Morris,
Deputy Chief of Staff.

[FR Doc. 03-28109 Filed 11-6-03; 8:45 am]

BILLING CODE 8025-01-P